FEDERAL COMMUNICATIONS COMMISSION

Federal Communications Commission Recharters and Seeks Nominations for Membership on the Communications Security, Reliability, and Interoperability Council

AGENCY: Federal Communications Commission.

ACTION: Notice.

SUMMARY: The Federal Communications Commission (FCC or Commission) has rechartered and is seeking nominations and expressions of interest for membership on the Communications Security, Reliability, and Interoperability Council CSRIC or Council). The Council is a Federal Advisory Committee that provides guidance and expertise on best practices and actions the Commission could take to ensure the optimal security, reliability and interoperability of communications systems (including telecommunications, public safety communications systems, and media) on key issues such as cybersecurity, Next General 9-1-1, next generation emergency alerting, and improvements to priority communications services.

DATES: Nominations and expressions of interest for membership must be submitted to the Federal Communications Commission no later than April 22, 2011.

ADDRESSES: Nominations should be sent to Lisa M. Fowlkes, Deputy Bureau Chief, Public Safety & Homeland Security Bureau, Federal Communications Commission, via e- mail at lisa.fowlkes@fcc.gov; via facsimile at 202-418-2817; or via U.S. mail at 445 12th Street, SW., Room 7- C753, Washington, DC 20554. Due to the extensive security screening of incoming U.S. mail, delivery of U.S. mail sent to the Commission may be delayed, and we encourage submission by e-mail or facsimile.

FOR FURTHER INFORMATION CONTACT: Lisa M. Fowlkes, Deputy Chief, Public Safety & Homeland Security Bureau, (202) 418-7452 (voice) or lisa.fowlkes@fcc.gov (e-mail) or Jeffery Goldthorp, Associate Chief for Cybersecurity and Communications Reliability, Public Safety & Homeland Security Bureau, (202) 418-1096 (voice) or Jeffery.goldthorp@fcc.gov (e-mail).

SUPPLEMENTARY INFORMATION: The FCC is seeking nominations and expressions of interest for membership on the Communications Security, Reliability, and Interoperability Council. The Council is a Federal Advisory Committee that provides guidance and expertise on best practices and actions the Commission could take to ensure the optimal security, reliability and interoperability of communications systems (including telecommunications, public safety communications systems, and media) on key issues such as cybersecurity, Next General 9-1-1, next generation emergency alerting, and improvements to priority communications services. On March 18, 2011, the FCC, pursuant to the Federal Advisory Committee Act (5 U.S.C. Appendix 2), renewed the charter for the CSRIC for a period of two years through March 18, 2013. Nominations and expressions of interest for membership must be submitted to the FCC no later than April 20, 2011. Procedures for submitting nominations and expressions of interest are set forth below.

CSRIC's Mission

Under its charter, CSRIC's duties may include:

• Developing and recommending best practices and actions the FCC can take that promote reliable 9-1-1, E9-1-1, and Next Generation 9-1-1 (NG9-1-1) service.

• Determining and making recommendations on whether and how NG9-1-1 can be extended to other N-1-1 services to ensure their reliability and cost-effective deployment.

• Identifying and recommending to the FCC a set of best practices to make communications networks, including broadband networks and VoIP systems, more secure, resilient, and defendable from Internet-based attacks.

• Developing recommendations for actions the FCC could consider to promote the development of a broadband-based, next generation alerting system that leverages advanced technologies and the Internet, including social media platforms, to distribute emergency alerts and warnings to the public.

• Identifying and recommending to the FCC actions to improve the functioning of the national security/emergency preparedness priority services programs: Government Emergency Telecommunications Service; Telecommunications Service Priority; and Wireless Priority Service.

• Making recommendations with respect to such additional topics as the FCC may specify.

Membership

The Commission seeks nominations and expressions of interest for membership on the Council. Members of the Council will be appointed from among Federal, State, tribal, and local government agencies and organizations; organizations representing users of communications systems, including the Internet; and other private-sector organizations to balance the expertise and viewpoints that are necessary to effectively address the issues to be considered. The Commission is particularly interested in receiving nominations and expressions of interest from individuals and organizations in the following categories:

• State, tribal, and/or local government agencies and organizations with expertise in communications issues;

• Federal government agencies with expertise in communications and/or homeland security matters;

• Communications service providers and organizations representing communications service providers, including wireline and wireless communications service providers, broadcast radio and television licensees, cable television operators and other multichannel video programming distributors, satellite communications service providers, interconnected Voice over Internet Protocol and other IP-enabled service providers, and Internet Service Providers.

• Online retailers, online technology service providers, Internet security companies, and other providers of online services.

• Organizations and other entities representing users of communications systems, such as organizations representing the business, finance, energy, education, health care, and similar sectors and consumer or community organizations, such as those representing people with disabilities, the elderly, those living in rural areas, and those representing populations that speak, as their primary language, languages other than English.

• Qualified representatives of other stakeholders and interested parties with relevant expertise.

Members of the CSRIC will be appointed either as Representatives or as Special Government Employees, as appropriate.

Nominations/Expressions of Interest Procedures and Deadline

Nominations should be received by the Commission as soon as possible, but no later than April 22, 2011. Nominations received after this date may not be considered. Organizations should nominate senior leadership level representatives, such as a Chief Executive Officer, Chief Technical Officer, or other senior-level staff or official. No specific nomination form is required. However, each nomination must include the following information:

• Name, title and organization of the nominee and a description of the sector or interest the nominee will represent;

• Nominee's mailing address, e-mail address, telephone number, and facsimile number; and

• A statement summarizing the nominee's qualifications and reasons why the nominee should be appointed to the CSRIC.

• A statement confirming that the nominee is not a registered federal lobbyist.

Please note this Notice is not intended to be the exclusive method by which the Commission will solicit nominations and expressions of interest to identify qualified candidates. However, all candidates for membership on the Council will be subject to the same evaluation criteria.

Federal Communications Commission.
Marlene H. Dortch,
Secretary.

[FR Doc. 2011-7474 Filed 3-29-11; 8:45 am]

BILLING CODE 6712-01-P